DEPARTMENT OF DEFENSE

Department of the Army, Corps of Engineers

33 CFR Part 203

[COE-2021-0008]

RIN 0710-AA78

Natural Disaster Procedures: Preparedness, Response, and Recovery Activities of the Corps of Engineers

AGENCY: U.S. Army Corps of Engineers, DoD.

ACTION: Proposed rule; extension of comment period.

SUMMARY: On November 15, 2022, the U.S. Army Corps of Engineers (the Corps) published a proposed rule to revise its natural disaster procedures under this part of the Code of Federal Regulations (CFR), which implements a section of the Flood Control Act of 1941, as amended. The comment period was originally scheduled to end on January 17, 2023, and we received requests to extend the comment period. I am extending the comment period by 30 days to provide a 90-day comment period for this proposed rule. Comments previously submitted do not need to be resubmitted, as they have already been incorporated into the administrative record and will be fully considered in the Corps' decision-making process for this rulemaking action.

DATES: The comment period for the proposed rule published at 87 FR 68386 on November 15, 2022 is extended. Written comments must be submitted on or before February 16, 2023.

ADDRESSES: Submittal of comments may be accomplished, identified by docket number COE-2021-0008, by any of the following methods:

Federal eRulemaking Portal: https://www.regulations.gov. Follow the instructions for submitting comments.

Email: 33CFR203@usace.army.mil. Include the docket number, COE-2021-0008, in the subject line of the message.

Mail: HQ, U.S. Army Corps of Engineers, ATTN: 33CFR203/CECW-HS/3H63, 441 G Street NW, Washington DC 20314-1000.

Hand Delivery/Courier: Due to security requirements, we cannot receive comments by hand delivery or courier.

Instructions: Instructions for submitting comments are provided in the proposed rule published on November 15, 2022 (87 FR 68386). Consideration will be given to all comments received by February 16, 2023.

FOR FURTHER INFORMATION CONTACT: Mr. Willem H. A. Helms, Office of Homeland Security, Directorate of Civil Works, U.S. Army Corps of Engineers, at (202) 761-5909 or willem.h.helms@usace.army.mil.

SUPPLEMENTARY INFORMATION: In the November 15, 2022, issue of the Federal Register (87 FR 68386), the Corps published a proposed rule to revise its natural disaster procedures under this part of the Code of Federal Regulations (CFR), which implements a section of the Flood Control Act of 1941, as amended. Revisions will incorporate advances in risk-informed decision-making approaches and disaster response lessons learned, as well as recent amendments to this section of the Flood Control Act of 1941.

We have received requests for an extension of the comment period for the proposed rule. The Corps finds that a 30-day extension of the comment period for this proposed rule is warranted. Therefore, the comment period for this proposed rule is extended until February 16, 2023.

Michael L. Connor,
Assistant Secretary of the Army, (Civil Works).

[FR Doc. 2023-00300 Filed 1-9-23; 8:45 am]

BILLING CODE 3720-58-P